DEPARTMENT OF TRANSPORTATION

Federal Aviation Administration

14 CFR Part 39

[Docket No. FAA-2013-0097; Directorate Identifier 2011-NM-243-AD; Amendment 39-17572; AD 2013-17-08]

RIN 2120-AA64

Airworthiness Directives; The Boeing Company Airplanes

AGENCY: Federal Aviation Administration (FAA), DOT.

ACTION: Final rule.

SUMMARY: We are superseding airworthiness directive (AD) 2010-20-08, which applied to certain The Boeing Company Model 747-100, 747-100B, 747-100B SUD, 747-200B, 747-200C, 747-200F, 747-300, 747-400, 747-400D, 747-400F, and 747SR series airplanes. AD 2010-20-08 required repetitive inspections to find cracking of the web, strap, inner chords, inner chord angle of the forward edge frame of the number 5 main entry door cutouts; the frame segment between stringers 16 and 31; repair if necessary; and repetitive inspections for cracking of repairs. This new AD expands the previous fuselage areas that are inspected for cracking. This AD was prompted by multiple reports of cracking outside of the previous inspection areas and a report of a crack that initiated at the aft edge of the inner chord rather than initiating at a fastener location. We are issuing this AD to detect and correct such cracks, which could cause damage to the adjacent body structure and could result in depressurization of the airplane in flight.

DATES: This AD is effective October 22, 2013.

The Director of the Federal Register approved the incorporation by reference of a certain publication listed in the AD as of October 22, 2013.

The Director of the Federal Register approved the incorporation by reference of a certain other publication listed in this AD as of November 9, 2010 (75 FR 61337, October 5, 2010).

The Director of the Federal Register approved the incorporation by reference of a certain other publication listed in this AD as of September 12, 2001 (66 FR 41440, August 8, 2001).

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Nathan Weigand, Aerospace Engineer, Airframe Branch, ANM-120S, FAA, Seattle Aircraft Certification Office (ACO), 1601 Lind Avenue SW., Renton, WA 98057-3356; phone: 425-917-6428; fax: 425-917-6590; email: Nathan.P.Weigand@faa.gov.

SUPPLEMENTARY INFORMATION:

Discussion

We issued a notice of proposed rulemaking (NPRM) to amend 14 CFR part 39 to supersede AD 2010-20-08, Amendment 39-16442 (75 FR 61337, October 5, 2010) (“AD 2010-20-08)”. AD 2010-20-08 applied to the specified products. The NPRM published in the Federal Register on March 6, 2013 (78 FR 14469). The NPRM proposed to require repetitive inspections to find cracking of the web, strap, inner chords, inner chord angle of the forward edge frame of the number 5 main entry door cutouts; the frame segment between stringers 16 and 31; repair if necessary; and repetitive inspections for cracking of repairs. The NPRM also proposed to expand the previous fuselage areas that are inspected for cracking.

Comments

We gave the public the opportunity to participate in developing this AD. The following presents the comments received on the proposal (78 FR 14469, March 6, 2013) and the FAA's response to each comment.

Support for the NPRM (78 FR 14469, March 6, 2013)

Boeing stated that it concurs with the contents of the NPRM (78 FR 14469, March 6, 2013).

Request To Change Repair Procedure

UPS requested that we revise paragraph (q) of the NPRM (78 FR 14469, March 6, 2013) to allow repairs in accordance with Boeing Alert Service Bulletin 747-53A2450, Revision 7, dated November 2, 2011, instead of only the alternative method of compliance process. UPS asserted that Boeing Alert Service Bulletin 747-53A2450, Revision 7, dated November 2, 2011, provides instructions to repair crack findings for the initial and post-repair inspections required by the NPRM.

We partially agree with the commenter's request. We agree that the crack repair for the initial and repetitive inspections required by paragraph (o) of this final rule is addressed by Boeing Alert Service Bulletin 747-53A2450, Revision 7, dated November 2, 2011. However, post-repair cracking is not covered by Boeing Alert Service Bulletin 747-53A2450, Revision 7, dated November 2, 2011. We have redesignated paragraph (q) of the NPRM as paragraphs (q)(1) and (q)(2) in this final rule. We have changed paragraph (q)(1) of this final rule to specify that the initial inspection crack repair for paragraph (o) of this final rule is to be done in accordance with Boeing Alert Service Bulletin 747-53A2450, Revision 7, dated November 2, 2011. We have not changed the crack repair procedure for the post-repair inspection required by paragraph (q)(2) of this final rule.

Changes Made to This Final Rule

We have redesignated paragraph (r) of the NPRM (78 FR 14469, March 6, 2013) as paragraph (r)(1) in this final rule, and have added paragraph (r)(2) in this final rule to clarify certain post-repair inspection procedures.

Conclusion

We reviewed the relevant data, considered the comments received, and determined that air safety and the public interest require adopting this AD with the changes described previously—and minor editorial changes. We have determined that these minor changes:

• Are consistent with the intent that was proposed in the NPRM (78 FR 14469, March 6, 2013) for correcting the unsafe condition; and

• Do not add any additional burden upon the public than was already proposed in the NPRM (78 FR 14469, March 6, 2013).

We also determined that these changes will not increase the economic burden on any operator or increase the scope of this AD.

Costs of Compliance

We estimate that this AD affects 151 airplanes of U.S. registry.

We estimate the following costs to comply with this AD:

Estimated Costs
Action | Labor cost | Parts cost | Cost per product | Cost on U.S. operators
Inspections [actions retained from AD 2010-20-08, Amendment 39-16442 (75 FR 61337, October 5, 2010)] | Up to 44 work-hours × $85 per hour = $3,740 per inspection cycle | $0 | Up to $3,740 per inspection cycle | Up to $564,740 per inspection cycle.
Inspections [new action] | Up to 121 work-hours × $85 per hour = $10,285 per inspection cycle | 0 | Up to $10,285 per inspection cycle | Up to $1,553,035 per inspection cycle.

We have received no definitive data that would enable us to provide cost estimates for the on-condition actions specified in this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2010-20-08, Amendment 39-16442 (75 FR 61337, October 5, 2010), and adding the following new AD:

2013-17-08 The Boeing Company: Amendment 39-17572; Docket No. FAA-2013-0097; Directorate Identifier 2011-NM-243-AD.

(a) Effective Date

This AD is effective October 22, 2013.

(b) Affected ADs

This AD supersedes AD 2010-20-08, Amendment 39-16442 (75 FR 61337, October 5, 2010).

(c) Applicability

This AD applies to The Boeing Company Model 747-100, 747-100B, 747-100B SUD, 747-200B, 747-200C, 747-200F, 747-300, 747-400, 747-400D, 747-400F, and 747SR series airplanes, certificated in any category, having line numbers 1 through 1419 inclusive; except for Model 747-400 series airplanes that have been modified into the Model 747-400 large cargo freighter configuration.

(d) Subject

Joint Aircraft System Component (JASC)/Air Transport Association (ATA) of America Code 53, Fuselage.

(e) Unsafe Condition

This AD was prompted by multiple reports of cracking outside of the previous inspection areas and a report of a crack that initiated at the aft edge of the inner chord rather than initiating at a fastener location. We are issuing this AD to detect and correct such cracks, which could cause damage to the adjacent body structure and could result in depressurization of the airplane in flight.

(f) Compliance

Comply with this AD within the compliance times specified, unless already done.

(g) Retained Repetitive Inspections for Frame Segment Between Stringers 23 and 31 (No Terminating Action)

This paragraph restates the requirements of paragraph (g) of AD 2010-20-08, Amendment 39-16442 (75 FR 61337, October 5, 2010). For airplanes having line numbers 1 through 1304 inclusive: Inspect the airplane for cracks between stringers 23 and 31 per Boeing Alert Service Bulletin 747-53A2450, Revision 2, including Appendix A, dated January 4, 2001; or Boeing Alert Service Bulletin 747-53A2450, Revision 5, dated January 29, 2009; at the later of the applicable times specified in paragraph (h) or (i) of this AD, per table 1 to paragraphs (g) and (h) of this AD. Where there are differences between the AD and Boeing Alert Service Bulletin 747-53A2450, Revision 2, including Appendix A, dated January 4, 2001; or Boeing Alert Service Bulletin 747-53A2450, Revision 5, dated January 29, 2009; the AD prevails.

Table 1 to Paragraphs (g) and (h) of this AD—Inspection Requirements
Type of Inspection | Area to Inspect
(1) Detailed Visual | Strap inner chords forward and aft of the web, and exposed web adjacent to the inner chords on station 2231 frame from stringers 23 through 31 per Figure 5 or Figure 6 of the service bulletins specified in paragraph (g) or (h) of this AD, as applicable.
(2) Surface High Frequency Eddy Current (HFEC) | Station 2231 inner chord angles at lower main sill interface per Figure 5 or Figure 6 of the service bulletins specified in paragraph (g) or (h) of this AD, as applicable.
(3) Open Hole HFEC | Station 2231 frame fastener locations per Figures 4 and 7, and either Figure 5 or 6 of the service bulletins specified in paragraph (g) or (h) of this AD, as applicable.
(4) Surface HFEC | Around fastener locations on station 2231 inner chords from stringers 23 through 31 per Figure 5 or Figure 6 of the service bulletins specified in paragraph (g) or (h) of this AD, as applicable.
(5) Low Frequency Eddy Current (LFEC) | Station 2231 frame strap in areas covered by the reveal per Figure 5 or Figure 6 of the service bulletins specified in paragraph (g) or (h) of this AD, as applicable.

Note 1 to paragraph (g) of this AD: There is no terminating action currently available for the inspections required by paragraph (g) of this AD.

(h) Retained Compliance Times

This paragraph restates the requirements of paragraph (h) of AD 2010-20-08, Amendment 39-16442 (75 FR 61337, October 5, 2010). Do the inspections specified in paragraph (g) of this AD at the applicable times specified in paragraph (h)(1) or (h)(2) of this AD. Repeat the inspections at intervals not to exceed 3,000 flight cycles until the inspections required by paragraph (m) or (o) of this AD are done. Where there are differences between the AD and Boeing Alert Service Bulletin 747-53A2450, Revision 2, including Appendix A, dated January 4, 2001; or Boeing Alert Service Bulletin 747-53A2450, Revision 5, dated January 29, 2009; the AD prevails.

(1) Do the inspections per table 1 to paragraphs (g) and (h) of this AD at the applicable time specified in the logic diagram in Figure 1 of Boeing Alert Service Bulletin 747-53A2450, Revision 2, including Appendix A, dated January 4, 2001. Where the compliance time in the logic diagram specifies a compliance time beginning “from receipt of this service bulletin,” this AD requires that the compliance time begin “after September 12, 2001 (the effective date of AD 2001-16-02, Amendment 39-12370 (66 FR 41440, August 8, 2001)).”

(2) After November 9, 2010 (the effective date of AD 2010-20-08, Amendment 39-16442 (75 FR 61337, October 5, 2010)), do the inspections per table 1 to paragraphs (g) and (h) of this AD at the applicable compliance time specified in paragraph 1.E., “Compliance,” of Boeing Alert Service Bulletin 747-53A2450, Revision 5, dated January 29, 2009. Where the compliance time in Boeing Alert Service Bulletin 747-53A2450, Revision 2, including Appendix A, dated January 4, 2001, specifies a compliance time beginning “after the date on Revision 2 of this service bulletin,” this AD requires that the compliance time begin “after September 12, 2001 (the effective date of AD 2001-16-02, Amendment 39-12370 (66 FR 41440, August 8, 2001)).”

(i) Retained Repetitive Inspections for Frame Segment Between Stringers 23 and 31

This paragraph restates the requirements of paragraph (i) of AD 2010-20-08, Amendment 39-16442 (75 FR 61337, October 5, 2010). Within 3,000 flight cycles after accomplishment of the inspections specified in Figure 1 of Boeing Alert Service Bulletin 747-53A2450, dated May 4, 2000; or Boeing Alert Service Bulletin 747-53A2450, Revision 1, dated July 6, 2000; repeat the inspections specified in paragraph (g) of this AD at intervals not to exceed 3,000 flight cycles until the inspections required by paragraph (m) or (o) of this AD are done. Where there are differences between the AD and Boeing Alert Service Bulletin 747-53A2450, Revision 2, dated January 4, 2001; or Boeing Alert Service Bulletin 747-53A2450, Revision 5, dated January 29, 2009; the AD prevails.

(j) Retained Additional Repetitive Inspections (For Frame Segment Between Stringers 16 and 23)

This paragraph restates the requirements of paragraph (j) of AD 2010-20-08, Amendment 39-16442 (75 FR 61337, October 5, 2010).

(1) For all airplanes: Before the accumulation of 16,000 total flight cycles, or within 1,500 flight cycles after November 9, 2010 (the effective date of AD 2010-20-08, Amendment 39-16442 (75 FR 61337, October 5, 2010)), whichever occurs later, do a detailed inspection, an open hole HFEC inspection, a surface HFEC inspection, and a subsurface LFEC inspection for cracking of the forward edge frame of the number 5 main entry door cutouts, at station 2231, between stringers 16 and 23; in accordance with the Accomplishment Instructions of Boeing Alert Service Bulletin 747-53A2450, Revision 5, dated January 29, 2009. Repeat the inspections thereafter at intervals not to exceed 3,000 flight cycles.

(2) The part number of the nut for fastener code “K” in Figure 7 of Boeing Alert Service Bulletin 747-53A2450, Revision 5, dated January 29, 2009, should be “BACN10JC3CD,” instead of “BACB30JC3CD.” In addition, the part number of the optional nut for this fastener code should be “BACN10YR3CD,” instead of “BACN10YR4CD,” in Boeing Alert Service Bulletin 747-53A2450, Revision 5, dated January 29, 2009.

(k) Retained Repetitive Inspections for Line Numbers 1305 and On (For Frame Segment Between Stringers 23 and 31)

This paragraph restates the requirements of paragraph (k) of AD 2010-20-08, Amendment 39-16442 (75 FR 61337, October 5, 2010). For airplanes having line numbers 1305 and on: Before the accumulation of 16,000 total flight cycles, or within 1,500 flight cycles after November 9, 2010 (the effective date of AD 2010-20-08, Amendment 39-16442 (75 FR 61337, October 5, 2010)), whichever occurs later, do a detailed inspection, an open hole HFEC inspection, a surface HFEC inspection, and a subsurface LFEC inspection for cracking of the forward edge frame of the number 5 main entry door cutouts, at station 2231, between stringers 23 and 31; in accordance with the Accomplishment Instructions of Boeing Alert Service Bulletin 747-53A2450, Revision 5, dated January 29, 2009. Repeat the inspections thereafter at intervals not to exceed 3,000 flight cycles.

(l) Retained Corrective Action for Paragraphs (g), (j), and (k) of This AD

This paragraph restates the requirements of paragraph (l) of AD 2010-20-08, Amendment 39-16442 (75 FR 61337, October 5, 2010). If any crack is found during any inspection required by paragraph (g), (j), or (k) of this AD, before further flight, repair the crack in accordance with a method approved by the Manager, Seattle Aircraft Certification Office (ACO), FAA, in accordance with data meeting the type certification basis of the airplane approved by the Boeing Commercial Airplanes Organization Designation Authorization (ODA) that has been authorized by the Manager, Seattle ACO, to make those findings; or in accordance with Boeing Alert Service Bulletin 747-53A2450, Revision 5, dated January 29, 2009; as applicable. For a repair method to be approved by the Manager, Seattle ACO, as required by this paragraph, the approval letter must specifically reference this AD. As of November 9, 2010 (the effective date of AD 2010-20-08), repair the crack using a method approved in accordance with the procedures specified in paragraph (s) of this AD.

(m) Retained Post-Repair Inspections

This paragraph restates the requirements of paragraph (m) of AD 2010-20-08, Amendment 39-16442 (75 FR 61337, October 5, 2010). Except as required by paragraph (n) of this AD, for airplanes on which the forward edge frame of the number 5 main entry door cutouts, at station 2231, between stringers 16 and 31, is repaired as specified in Boeing Alert Service Bulletin 747-53A2450: Within 3,000 flight cycles after doing the repair, or within 1,500 flight cycles after November 9, 2010 (the effective date of AD 2010-20-08), whichever occurs later, do the detailed, LFEC, and HFEC inspections of the repaired area for cracks, in accordance with the Accomplishment Instructions of Boeing Alert Service Bulletin 747-53A2450, Revision 5, dated January 29, 2009. If no cracking is found, repeat the inspections thereafter at intervals not to exceed 3,000 flight cycles. If any crack is found: Before further flight, repair using a method approved in accordance with the procedures specified in paragraph (s) of this AD. Doing the inspections specified in paragraph (m) of this AD terminates the repetitive inspections required by paragraphs (g), (h), (i), (j), and (k) of this AD for the repaired area.

(n) Retained Post-Repair Inspection Restriction

This paragraph restates the requirements of paragraph (n) of AD 2010-20-08, Amendment 39-16442 (75 FR 61337, October 5, 2010). For any frame that is repaired in accordance with a method other than the Accomplishment Instructions of Boeing Alert Service Bulletin 747-53A2450, Revision 5, dated January 29, 2009: Do the inspection in accordance with a method approved in accordance with the procedures specified in paragraph (s) of this AD.

(o) New Repetitive Inspections With Expanded Inspection Area

Before the accumulation of 16,000 total flight cycles, or within 3,000 flight cycles after the effective date of this AD, whichever occurs later, do the inspections required by paragraphs (o)(1) through (o)(5) of this AD, except as specified in paragraph (p) of this AD. Do all actions required by this paragraph in accordance with the Accomplishment Instructions of Boeing Alert Service Bulletin 747-53A2450, Revision 7, dated November 2, 2011. Repeat the inspections thereafter at the applicable times specified in Paragraph 1.E., “Compliance,” of Boeing Alert Service Bulletin 747-53A2450, Revision 7, dated November 2, 2011. Accomplishment of the initial inspections required by this paragraph terminates the requirements of paragraphs (g) through (k) of this AD.

(1) Do a detailed inspection for cracking on the frame strap, inner chords forward and aft of the web, and exposed web adjacent to the inner chords from stringer 15 to 31.

(2) Do an HFEC inspection of the station 2231 frame fastener locations for cracking from stringer 16 to 31, including locations common to the upper main sill strap and stringer clip at stringer 16.

(3) Do an HFEC inspection for cracking of the frame inner chords around the fastener heads from stringer 15 to 31.

(4) Do an HFEC inspection for cracking of the aft edge of the aft inner chord, of the forward edge of the forward inner chord, and of the forward and aft edges of the frame strap from stringer 15 to 31.

(5) Do an LFEC inspection for cracking of the station 2231 frame strap from stringer 16 to 31 in areas covered by the reveal.

(p) New Post-Repair Inspection for Repaired Areas

For airplanes on which the post-repair inspections are being done as specified in paragraph (m) of this AD: For the repaired area only, continue the inspections as specified in paragraph (m) of this AD in lieu of the inspections specified in paragraph (o) of this AD.

(q) New Corrective Action

(1) If any cracking is found during any inspection required by paragraph (o) of this AD: Before further flight, repair the cracking, in accordance with the Accomplishment Instructions of Boeing Alert Service Bulletin 747-53A2450, Revision 7, dated November 2, 2011.

(2) If any cracking is found during any inspection required by paragraph (p) or (r) of this AD: Before further flight, repair the cracking using a method approved in accordance with the procedures specified in paragraph (s) of this AD.

(r) New Post-Repair Repetitive Inspections and Corrective Action

(1) For any airplane repaired as specified in paragraph (q)(1) of this AD: Within 3,000 flight cycles after doing the repair, do detailed, LFEC, and HFEC inspections of the repaired area for cracking, in accordance with the Accomplishment Instructions of Boeing Alert Service Bulletin 747-53A2450, Revision 7, dated November 2, 2011. If no cracking is found, repeat the inspections thereafter at intervals not to exceed 3,000 flight cycles. If any cracking is found: Before further flight, repair the cracking using a method approved in accordance with the procedures specified in paragraph (s) of this AD.

(2) For any airplane repaired as specified in paragraph (q)(2) of this AD: Before further flight, contact the Manager, Seattle Aircraft Certification Office (ACO), FAA, for instructions and compliance times for doing an inspection of the repaired area for cracking. Do the inspection at the compliance times specified using the inspection procedures provided. If any cracking is found: Before further flight, repair the cracking using a method approved in accordance with the procedures specified in paragraph (s) of this AD.

(s) Alternative Methods of Compliance (AMOCs)

(1) The Manager, Seattle ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes ODA that has been authorized by the Manager, Seattle ACO, to make those findings. For a repair method to be approved, the repair must meet the certification basis of the airplane, and the approval must specifically refer to this AD.

(4) AMOCs approved previously in accordance with AD 2010-20-08, Amendment 39-16442 (75 FR 61337, October 5, 2010), are approved as AMOCs for the corresponding provisions of paragraphs (g) through (m) of this AD.

(5) AMOCs approved previously in accordance with AD 2010-20-08, Amendment 39-16442 (75 FR 61337, October 5, 2010), that have post-repair inspections are approved as AMOCs for the corresponding provisions of paragraph (o) of this AD for the repaired area only.

(t) Related Information

For more information about this AD, contact Nathan Weigand, Aerospace Engineer, Airframe Branch, ANM-120S, FAA, Seattle Aircraft Certification Office (ACO), 1601 Lind Avenue SW., Renton, WA 98057-3356; phone: 425-917-6428; fax: 425-917-6590; email: Nathan.P.Weigand@faa.gov.

(u) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on October 22, 2013.

(i) Boeing Alert Service Bulletin 747-53A2450, Revision 7, dated November 2, 2011.

(ii) Reserved.

(4) The following service information was approved for IBR on November 9, 2010 (75 FR 61337, October 5, 2010).

(i) Boeing Alert Service Bulletin 747-53A2450, Revision 5, dated January 29, 2009.

(ii) Reserved.

(5) The following service information was approved for IBR on September 12, 2001 (66 FR 441440, August 8, 2001).

(i) Boeing Alert Service Bulletin 747-53A2450, Revision 2, including Appendix A, dated January 4, 2001.

(ii) Reserved.

(6) For Boeing service information identified in this AD, contact Boeing Commercial Airplanes, Attention: Data & Services Management, P.O. Box 3707, MC 2H-65, Seattle, WA 98124-2207; telephone 206-544-5000, extension 1; fax 206-766-5680; Internet https://www.myboeingfleet.com.

(7) You may view this service information at FAA, Transport Airplane Directorate, 1601 Lind Avenue SW., Renton, WA. For information on the availability of this material at the FAA, call 425-227-1221.

(8) You may view this service information that is incorporated by reference at the National Archives and Records Administration (NARA). For information on the availability of this material at NARA, call 202-741-6030, or go to: http://www.archives.gov/federal-register/cfr/ibr-locations.html.

Issued in Renton, Washington, on August 16, 2013.
Jeffrey E. Duven,
Acting Manager, Transport Airplane Directorate, Aircraft Certification Service.

[FR Doc. 2013-22408 Filed 9-16-13; 8:45 am]

BILLING CODE 4910-13-P